DEPARTMENT OF LABOR

Employment and Training Administration

[TA-W-54,551]

Eureka Security Printing, Jessup, PA; Notice of Termination of Investigation

Pursuant to section 221 of the Trade Act of 1974, an investigation was initiated on March 18, 2004, in response to a worker petition which was filed on behalf of workers at Eureka Security Printing, Jessup, Pennsylvania (TA-W-54,551).

The petitioners have requested that the petition be withdrawn. Consequently, further investigation in this case would serve no purpose, and the investigation has been terminated.

Signed in Washington, DC this 2nd day of April, 2004.
Elliott S. Kushner,
Certifying Officer, Division of Trade Adjustment Assistance.

[FR Doc. E4-1006 Filed 5-3-04; 8:45 am]

BILLING CODE 4510-13-P